DEPARTMENT OF STATE

[Public Notice 4718]

Bureau of Educational and Cultural Affairs Request for Grant Proposals: Iraqi Administrator and Teacher Training Project

SUMMARY: The Teacher Exchange Branch in the Office of Global Educational Programs of the Bureau of Educational and Cultural Affairs (ECA), announces an open competition for the development of a training program for Iraqi teachers and administrators. Public and private non-profit organizations meeting the provisions described in Internal Revenue Code section 26 U.S.C. 501(c)(3) may submit proposals to support the development of a two-part training project to enhance the skills of Iraqi secondary school teachers of English and of secondary school administrators. Bureau funding up to $400,000 is currently available to support one grant for this two-part training project.

The recipient organization will be responsible for planning, implementing, and evaluating programs for two different groups: (1) A three-week program for secondary school administrators from Iraq (such as, principals and/or vice principals) followed by (2) a six-week English language training program, for secondary school teachers of English from Iraq. Grantee should plan and allocate funding for follow-on activities, such as linkages between U.S. secondary schools and Iraqi schools, the provision of instructional materials, etc., for the administrators and teachers. If funding should become available, the Bureau might later amend the grant to allow the grantee to facilitate an in-country follow-up “train-the-trainers” workshop at which program alumni would present what they have learned on the program to professional colleagues in Iraq.

Although the Bureau expects the secondary school teachers of English on this project to have sufficient English language skills to participate in the program without language interpretation, it is likely that the secondary school administrators will require it. Therefore, the grantee organization should plan and budget for Arabic language interpreters during the program for administrators.

The Public Affairs Section of the U.S. Embassy in Iraq will recruit and select teachers and administrators for the project. The recipient organization should expect to work closely with ECA and the Embassy as the programs are planned and implemented in order to adapt them to changing conditions as necessary.

Program Information

Overview

The proposal should include four emphases: first, to conduct a program focusing on secondary school administration; second, to produce a highly focused training program that introduces teachers to best practices in EFL at the secondary level; third, to provide both groups of participants with “train-the-trainer” skills that will enable them to conduct workshops on program topics in Iraq in the future; and fourth, to provide both groups of participants with opportunities to interact with Americans, thereby allowing them to gain an awareness and understanding of U.S. culture and society.

The Bureau seeks detailed proposals from U.S. colleges, universities and non-profit organizations that have expertise in the field of secondary school curriculum development and management, as well as teaching English as a Foreign Language (EFL). Proposals should demonstrate sensitivity to the local educational situation in Iraq as well as the issues confronting English language education there. The grantee will design and implement two U.S. based training programs. In the first program, secondary school administrators will discuss with U.S. counterparts and project administrators the training needs of Iraqi teachers for the development of the second program. The Iraqi administrators will observe and shadow administrators in U.S. secondary schools as well as observe EFL and other classrooms. The administrators will also consult with the U.S. project administrators responsible for planning and implementing the teacher-training program, to discuss how to design a program that will target the needs of Iraqi secondary school EFL teachers. The teachers program will follow the administrator program and will include specialized training in U.S. methodologies for teaching EFL. Applicants are strongly encouraged to include university-based training in the teacher program. Please read the Project Objectives, Goals, and Implementation (POGI) for additional details of both programs.

Proposals should demonstrate experience training teachers and administrators and conducting other programs in Iraq or the Middle East/North Africa region. Proposals should outline and budget for practical and feasible follow-on activities that build on the achievements of the training programs while promoting the continued exchange of ideas between the participants and counterparts at the U.S. grantee organization and in U.S. secondary schools.

Guidelines

Project Planning and Implementation

Grant Inception and Duration

The planning of the administrator program and the teacher program should begin as soon as the grant is awarded. The grantee should consult closely with ECA to assess local conditions in Iraq and to determine a feasible implementation strategy. Secondary school administrators and teachers will probably not be given leave during the academic school year. Since the administrator program is shorter in length, it might be scheduled for a school break for the 2004-05 academic year. The teacher program may be more feasible if it is scheduled during the summer of 2005 when school will not be in session.

Planning

In coordination with the Iraqi Ministry of Education, participants will be recruited and selected in Iraq by the Public Affairs Section (PAS) of the U.S. Embassy. Following the U.S. training activities, embassy officials will work with Iraqi educational officials as appropriate to facilitate follow-on training activities. Grantee should outline a plan for follow-on activities and a budget of at least $20,000 to cover these costs.

After the participants have been selected, they will travel from Iraq to Amman, Jordan for U.S. visa issuance and to receive a pre-departure orientation workshop by the PAS of the U.S. Embassy in Amman. Both orientations will be organized in Amman, Jordan, unless conditions allow for such activities to be organized in Iraq, in which case the pre-departure orientations will be held by the PAS of the U.S. Embassy in Iraq. The grantee will work closely with the PAS in planning the orientations and should budget for one staff person to travel to the orientations in Amman, if requested.

At the orientations, the PAS will provide information about the respective programs and goals, as well as the expectations and responsibilities of participants. In addition, relevant issues regarding the U.S. education system, culture and society will be addressed. The grantee will develop orientation packets for each participant that cover these subjects. These packets will be sent to the PAS in advance of the scheduled pre-departure orientations.

Overland travel from Iraq to Amman, Jordan might be the only means of transportation available to the participants. At least 4-5 days should be allotted for participants to travel to Amman from Iraq and await U.S. visa issuance before flying from Amman to the U.S.

U.S. Based Training

Programs must comply with J-1 visa regulations. Please refer to the Solicitation Package for further information.

Participants are unlikely to have visited the United States previously. Therefore, the programs should provide orientations for both administrators and teachers to the host institution and its community and an introduction to U.S. society and our system of education shortly after arrival to the U.S. campus. The orientations will also offer a framework for integrating the training and its objectives into participants' previous training, and to promote strategies for them to share their knowledge with professional counterparts. Both programs should also include cultural activities that facilitate interaction among the participants, American students, faculty, and administrators and the local community to promote mutual understanding between the people of the United States and the people of Iraq.

Administrators

Participants will spend approximately three weeks in the U.S. in the program organized by the U.S. grantee. The program should meet the needs of the Iraqi participants through activities designed by U.S. education specialists with relevant expertise in secondary school administration, curriculum development and training. The program should have two components: (1) An approximately two-and-a-half-week program focusing on secondary school administration and (2) an approximately three-day visit to Washington, DC. The first component should include an overview of U.S. education, shadowing administrators in U.S. schools, classroom observation, including innovative EFL instruction, introduction to information technology as used in classrooms and administrative offices, and home stays with American families. Administrators should receive a broad view of U.S. teaching methodologies, including student-centered learning, in a broad range of subjects. Topics addressed during the program should include, but not be limited to: school strategic planning, teacher performance evaluations, conflict resolution, EFL instruction and computer literacy skills.

In the second component, the grantee will organize and accompany participants on a three-day visit to Washington, DC. The Washington visit should complement and reinforce the two-and-a-half-week administrators' program, and include a meeting at the Bureau of Educational and Cultural Affairs and other meetings as recommended by the Teacher Exchange Branch.

Administration and management of the academic program and the visit to Washington, DC, will be the responsibility of the U.S. grantee organization. The U.S. grantee is responsible for arrangements for domestic and international travel, lodging, food, and allowances for participants throughout the training portion of the project and in Washington.

Teachers

Participants will spend six weeks in the U.S. at the EFL training program organized by the U.S. grantee. The project should meet the needs of the Iraqi participants through activities designed by U.S. education specialists with appropriate expertise in EFL instruction, curriculum development and management and “train-the-trainer” skills.

The program should have two components: (1) An approximately five-week intensive academic program and (2) an approximately three-to-five day cultural and educational program in Washington, DC. The first component should introduce innovative EFL teaching methodologies and approaches and encourage participants to consider their implementation in Iraq, as well as classroom observation of other instruction in other core subject areas. Significant time should also be allotted for the inclusion of related professional activities outside the classroom which will introduce participants to U.S. education, such as visits to schools, consultations with U.S. teachers, in-school mentoring, and attendance at professional meetings. At a minimum, a one-week experiential component should be included in the five-week academic program in which participants observe best practices in EFL instruction and training in a U.S. school. Among the topics to be addressed during the program are: computer literacy skills for EFL instruction, critical thinking, communication, conflict resolution, analytical and evaluation skills, and student development and motivation.

The final component of the project is the three-to-five day site visit to Washington, DC. The site visit should complement and reinforce the five-week academic program. Visits will include a meeting at the Bureau of Educational and Cultural Affairs and other meetings as advised by the Teacher Exchange Branch. Administration and management of the academic program and the week in Washington, DC, will be the responsibility of the U.S. grantee organization. The U.S. grantee is responsible for arrangements for domestic and international travel, lodging, food, and allowances for participants throughout the training portion of the project and in Washington.

Budget Guidelines

Applicants must submit a comprehensive budget for the entire project. There must be a summary budget as well as breakdowns reflecting both administrative and program budgets. Applicants may submit separate sub-budgets for each program component, phase, location, or activity to provide clarification. The Bureau anticipates awarding one grant not to exceed $400,000 to support program and administrative costs required to implement all portions of both programs. Bureau guidelines require that organizations with less than four years experience in conducting international exchanges be limited to $60,000 in Bureau funding. Therefore, organizations with less than four years experience in conducting international exchanges are ineligible to apply under this competition. The Bureau encourages applicants to provide maximum levels of cost-sharing and funding in support of its programs.

Allowable costs for the program include the following:

(1) Instructional costs, including salaries and benefits of grantee organization, honoraria for outside speakers, educational materials;

(2) Travel, lodging, meals, and incidentals for participants;

(3) Expenses associated with cultural activities planned for the two groups of participants (for example, tickets, transportation);

(4) Administrative costs;

(5) Interpreter fees for administrator program;

(6) Follow-on activities to take place in Iraq.

Proposals should maximize cost sharing through private sector support as well as institutional direct funding contributions. Please refer to the POGI for complete budget guidelines and formatting instructions.

Announcement Title and Number: All correspondence with the Bureau concerning this RFGP should reference the Iraqi Administrator and Teacher Training Project ECA/A/S/X-04-05.

FOR FURTHER INFORMATION CONTACT: The Teacher Exchange Branch, Office of Global Educational Programs, ECA/A/S/X, Room 349, U.S. Department of State, 301 4th Street, SW., Washington, DC 20547, Telephone: (202) 619-6589, fax: (202) 401-1433 or e-mail: MorrisonTA@state.gov to request a Solicitation Package. The Solicitation Package contains detailed award criteria, required application forms, specific budget instructions, and standard guidelines for proposal preparation. Please specify Bureau Program Officer Tracy Morrison on all other inquiries and correspondence.

Please read the complete Federal Register announcement before sending inquiries or submitting proposals. Once the RFGP deadline has passed, Bureau staff may not discuss this competition with applicants until the proposal review process has been completed.

To Download a Solicitation Package Via Internet

The entire Solicitation Package may be downloaded from the Bureau's Web site at http://exchanges.state.gov/education/RFGPs. Please read all information before downloading.

New OMB Requirement

An OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at http://www.whitehouse.gov/omb/fedreg/062703_grant_identifier.pdf. Please also visit the ECA Web site at http://exchanges.state.gov/education/rfgps/menu.htm for additional information on how to comply with this new directive.

Shipment and Deadline for Proposals

Important Note: The deadline for this competition is June 24, 2004. In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. Delivery of proposal packages may not be made via local courier service or in person for this competition. Faxed documents will not be accepted at any time. Only proposals submitted as stated above will be considered.

Applicants must follow all instructions in the Solicitation Package. The original and (8) copies of the application should be sent to: U.S. Department of State, SA-44, Bureau of Educational and Cultural Affairs, Ref.: ECA/A/S/X-04-05, Program Management, ECA/EX/PM, Room 534, 301 4th Street, SW., Washington, DC 20547.

Applicants must also submit the “Executive Summary” and “Proposal Narrative” sections of the proposal in text (.txt) format on a PC-formatted disk. If feasible, the Bureau will provide these files electronically to the Public Affairs offices in the region for review.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR part 62, including the oversight of Responsible Officers and Alternate Responsible Officers, screening and selection of program participants, provision of pre-arrival information and orientation to participants, monitoring of participants, proper maintenance and security of forms, record-keeping, reporting and other requirements. The Grantee will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission.

2. Ability to achieve program objectives: Objectives should be reasonable, feasible, and flexible. Proposals should clearly demonstrate how the institution will meet the program's objectives and plan.

3. Support of Diversity: Proposals should demonstrate substantive support of the Bureau's policy on diversity. Achievable and relevant features should be cited in both program administration (program venue and program evaluation) and program content (orientation and wrap-up sessions, program meetings, resource materials and follow-up activities).

4. Institution's Record/Ability: Proposals should demonstrate an institutional record of successful exchange programs, including experience in training teachers and administrators and conducting programming in Iraq and/or the Middle East, and including responsible fiscal management and full compliance with all reporting requirements for past Bureau grants as determined by Bureau Grant Staff. The Bureau will consider the past performance of prior recipients and the demonstrated potential of new applicants.

5. Project Evaluation: Proposals should include a plan to evaluate the activity's success, both as the activities unfold and at the end of the program. A draft survey questionnaire or other technique plus description of a methodology to use to link outcomes to original project objectives is recommended. Successful applicants will be expected to submit intermediate reports after each project component is concluded or quarterly, whichever is less frequent.

6. Cost-sharing: Proposals should maximize cost-sharing through other private sector support as well as institutional direct funding contributions.

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: May 6, 2004.
C. Miller Crouch,
Principal Deputy Assistant Secretary, Bureau of Educational and Cultural Affairs, Department of State.

[FR Doc. 04-10889 Filed 5-12-04; 8:45 am]

BILLING CODE 4710-05-P